NUCLEAR REGULATORY COMMISSION

[NUREG-1718]

Standard Review Plan for the Mixed Oxide (MOX) Fuel Fabrication Facility Extension of Comment Period

AGENCY: Nuclear Regulatory Commission.

ACTION: Notice of availability.

SUMMARY: The Nuclear Regulatory Commission (NRC) has extended the public comment period on draft NUREG-1718, “Standard Review Plan for the Review of an Application for the Mixed Oxide (MOX) Fuel Fabrication Facility,” to allow interested parties additional time to prepare comments.

DATES: Submit comments by March 27, 2000. Comments received after this date will be considered if it is practical to do so, but the Commission is able to ensure consideration only for comments received on or before this date.

ADDRESSES: Mail written comments to: Chief, Rules and Directives Branch, U.S. Nuclear Regulatory Commission, Washington, DC 20555-0001. Hand deliver comments to 11545 Rockville Pike, Rockville, Maryland 20852, between 7:30 am and 4:15 pm during Federal workdays.

Draft NUREG-1718 is available for inspection and copying for a fee at the Commission's Public Document Room, the Gelman Building, 2120 L Street, NW, Washington, DC, and electronically from the ADAMS Public Library component on the NRC Web site, http://www.nrc.gov (the Electronic Reading Room).

A free single copy of draft NUREG-1718, to the extent of supply, may be requested by writing to the U.S. Nuclear Regulatory Commission, Distribution Services, Washington, DC 20555-0001. Draft NUREG-1718 is available on the World Wide Web at http://www.nrc.gov/NRC/NUREG/indexnum.html. Comments may be submitted by selecting the “comments” link on the main page for the draft NUREG.

FOR FURTHER INFORMATION CONTACT: For further information regarding draft NUREG-1718 contact Andrew Persinko, Office of Nuclear Material Safety and Safeguards, U.S. Nuclear Regulatory Commission, Washington, DC 20555, telephone (301) 415-6522.

Dated at Rockville, Maryland, this 6th day of March, 2000.
For the Nuclear Regulatory Commission.
Melvyn L. Leach,
Branch Chief, Special Projects Branch, Division of Fuel Cycle Safety and Safeguards, NMSS.

[FR Doc. 00-5895 Filed 3-9-00; 8:45 am]

BILLING CODE 7590-01-P